POSTAL REGULATORY COMMISSION

[Docket No. CP2013-77; Order No. 1812]

Change in Postal Rates

AGENCY: Postal Regulatory Commission.

ACTION: Notice.

SUMMARY: The Commission is noticing a recently Postal Service filing concerning the Postal Service's intention to change rates for Inbound International Expedited Services 2. This notice informs the public of the filing, invites public comment, and takes other administrative steps.

DATES: Comments are due: August 23, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION: Notice of filing. The Commission hereby provides notice that on August 15, 2013, the Postal Service filed a Notice, pursuant to 39 CFR 3015.5, announcing its intention to change rates for Inbound International Expedited Services 2, effective January 1, 2014.¹ The Notice includes classification changes to Inbound Express Mail International (EMS). Id. at 2-3.

¹ Notice of the United States Postal Service of Filing Changes in Rates Not of General Applicability and Changes to Product Description for Inbound EMS 2, August 15, 2013 (Notice).

Representations. The Postal Service states that Governors' Decision Nos. 08-20 and 11-6 establish prices and classifications for this product and identify subsequent dockets addressing price changes. Id. at 1-2. It asserts that the new rates for Inbound EMS 2 are in compliance with the requirements of 39 U.S.C. 3633(a)(2) and that it has met its burden of providing notice to the Commission of changed rates within the scope of Governors' Decision Nos. 08-20 and 11-6, as required by 39 U.S.C. 3632(b)(3). Id. at 7.

Attachments. The Postal Service filed six attachments as follows:

• Attachment 1—an application for non-public treatment of materials filed under seal;

• Attachments 2A and 2B—redacted copies of Governors' Decision Nos. 08-20 and 11-6;

• Attachment 3—a redacted set of the new rates;

• Attachment 4—a certification addressing costs and prices;

• Attachments 5A through 5E—redacted copies of the EMS Cooperative CY2012 Report Card and the EMS Cooperative quarterly report cards for CY2012;

• Attachment 6—changes to the Inbound EMS product description in the Mail Classification Schedule.

Public portions of the Postal Service's filing can be accessed via the Commission's Web site (http://www.prc.gov). Access to non-public documents is governed by 39 CFR part 3007.

Proceedings. The Commission establishes Docket No. CP2013-77 for consideration of matters raised by the Notice. Pursuant to 39 U.S.C. 505, it appoints Manon A. Boudreault to serve as officer of the Commission (Public Representative) representing the interests of the general public in these proceedings.

Interested persons may submit comments on whether the changes announced in the Notice are consistent with 39 U.S.C. 3632, 3633, 3642, 39 CFR 3015.5, and 39 CFR part 3020, subpart B. Comments are due no later than August 23, 2013. Comments are to be submitted via the Commission's Filing Online system at http://www.prc.gov unless a waiver is obtained. Information on how to obtain a waiver may be found by contacting the Commission's docket section at 202-789-6846.

It is ordered:

1. The Commission establishes Docket No. CP2013-77 for consideration of the Notice of the United States Postal Service of Filing Changes in Rates Not of General Applicability and Changes to Product Description for Inbound EMS 2, filed August 15, 2013.

2. Pursuant to 39 U.S.C. 505, the Commission appoints Manon A. Boudreault to serve as officer of the Commission (Public Representative) to represent the interests of the general public in this proceeding.

3. Comments are due no later than August 23, 2013.

4. The Secretary shall arrange for publication of this order in the Federal Register.

By the Commission.
Shoshana M. Grove,
Secretary.

[FR Doc. 2013-20453 Filed 8-21-13; 8:45 am]

BILLING CODE 7710-FW-P